DEPARTMENT OF COMMERCE

International Trade Administration

[A-570-848]

Helical Spring Lock Washers From the People's Republic of China: Notice of Court Decision Not In Harmony With Final Results of Administrative Review

AGENCY: Import Administration, International Trade Administration, Department of Commerce.

SUMMARY: On August 25, 2006, the United States Court of International Trade (“Court”) sustained the final remand determination made by the Department of Commerce (“the Department”) pursuant to the Court's remand of the final results of the administrative review of Helical Spring Lock Washers (“HSLWs”) from the People's Republic of China. See Shakeproof Assembly Components Division of IL Tool Works, Inc. v. United States, Consol. Ct. 05-00404, Slip Op. 06-129 (Ct. Int'l Trade Aug. 25, 2006) (“Shakeproof Assembly”). This case arises out of the Department's October 1, 2002, through September 30, 2003, administrative review final results. See Certain Helical Spring Lock Washers from the People's Republic of China: Final Results of Antidumping Duty Administrative Review, 70 FR 28274 (May 17, 2005) (“Final Results”). The final judgment in this case was not in harmony with the Department's Final Results.

EFFECTIVE DATE: September 4, 2006.

FOR FURTHER INFORMATION CONTACT: Marin Weaver or Charles Riggle, AD/CVD Operations, Office 8, Import Administration, International Trade Administration, U.S. Department of Commerce, 14th Street and Constitution Avenue, NW., Washington, DC 20230; telephone: (202) 482-2336 or (202) 482-0650, respectively.

SUPPLEMENTARY INFORMATION:

In Shakeproof Assembly Components v. United States, Slip Op. 05-163 (CIT, Dec. 22, 2005), the Court remanded the underlying results to the Department for reconsideration of the methodology employed to value plating services in the calculation of the antidumping duty rate for Hangzhou Spring Washer Co., Ltd. (“Hangzhou”).

On May 15, 2006, the Department issued the draft results of redetermination pursuant to remand to Hangzhou and Shakeproof Assembly Components Division of Illinois Tool Works Inc. (“Shakeproof”) for comment. On May 18, 2006, we received comments on our draft redetermination from both parties. On June 2, 2006, the Department issued its final results of redetermination pursuant to remand to the Court. The remand redetermination explained that the Department found the Sudha Electroplaters price quote to be the most reliable information on the record with which to value zinc plating. Moreover, based on the information on the record, the Department found that this quote should be applied to the weight of the un-plated lock washers. Thus, the Department recalculated the antidumping duty margin for Hangzhou. On August 25, 2006, the Court sustained the final redetermination made by the Department pursuant to the Court's remand of the final results of the administrative review of HSLWs from the People's Republic of China. See Shakeproof Assembly.

In its decision in Timken Co. v. United States, 893 F. 2d 337, 341 (Fed. Cir. 1990) (“Timken”), the United States Court of Appeals for the Federal Circuit held that, pursuant to section 516A(e) of the Tariff Act of 1930, as amended (“the Act”), the Department must publish a notice of a court decision that is not “in harmony” with a Department determination, and must suspend liquidation of entries pending a “conclusive” court decision. The Court's decision in Shakeproof Assembly on August 25, 2006, constitutes a final decision of that court that is not in harmony with the Department's Final Results. This notice is published in fulfillment of the publication requirements of Timken. Accordingly, the Department will continue the suspension of liquidation of the subject merchandise pending a final and conclusive court decision. The Court's ruling has been appealed, and if it is upheld by the Court of Appeals for the Federal Circuit, the Department will instruct U.S. Customs and Border Protection to revise cash deposit rates and liquidate relevant entries covering the subject merchandise effective September 4, 2006.

This notice is issued and published in accordance with section 516A(c)(1) of the Act.
Dated: November 17, 2006.
Stephen J. Claeys,
Acting Assistant Secretary for Import Administration.

[FR Doc. E6-20285 Filed 11-29-06; 8:45 am]

BILLING CODE 3510-DS-P